DEPARTMENT OF TRANSPORTATION

Federal Highway Administration

Environmental Assessment or Environmental Impact Statement: Rutherford County, NC

AGENCY: Federal Highway Administration (FHWA), DOT.

ACTION: Notice of Intent.

SUMMARY: The FHWA is issuing this notice to advise the public that an environmental assessment or environmental impact statement will be prepared for a proposed highway project in Rutherford County, North Carolina.

FOR FURTHER INFORMATION CONTACT: Mrs. Emily O. Lawton, Operations Engineer, Federal Highway Administration, 310 New Bern Avenue, Suite 410, Raleigh, North Carolina 27601, Telephone: (919) 856-4350.

SUPPLEMENTARY INFORMATION: The FHWA, in cooperation with the North Carolina Department of Transportation (NCDOT), will prepare an environmental assessment (EA) or environmental impact statement (EIS) addressing proposed improvements to the U.S. 221 corridor from U.S. 74 Bypass to SR 1355 (Mountain Creek Road) in Rutherford County. The proposed action would involve the construction of a multi-lane divided, controlled access highway, possibly on new location. The proposed project will be approximately 12.3 miles long depending on the alternative chosen. The proposed facility is considered necessary to reduce congestion, improve safety, and improve travel time for traffic using the U.S. 221 corridor in the vicinity of Rutherfordton. The proposed action is consistent with the thoroughfare plan approved by the towns of Rutherfordton and Spindale, Rutherford County, and the North Carolina Department of Transportation.

Alternatives under consideration include:

1. Do-Nothing

2. Alternative Modes of Transportation

3. Construction on New Alignment

4. Improve existing U.S. 221

Letters describing the proposed action and soliciting comments have been sent to appropriate Federal, State and local agencies. Public information meetings, meetings with local officials, and a public hearing will be held. Information on the time and place of the public information meetings and public hearing will be provided in the local news media. The EA or draft EIS will be available for public and agency review and comment prior to the public hearing.

To ensure the full range of issues related to the proposed action are addressed and all significant issues identified, comments and suggestions are invited from all interested parties. Comments and questions concerning the proposed action should be directed to the FHWA at the address provided above.

(Catalog of Federal Domestic Assistance Program Number 20.205, Highway Planning and Construction. The regulations implementing Executive Order 12372 regarding intergovernmental consultation on Federal programs and activities apply to this program)
Issued on: April 5, 2004.
Emily O. Lawton,
Operations Engineer, Federal Highway Administration, Raleigh, North Carolina.

[FR Doc. 04-8619 Filed 4-16-04; 8:45 am]

BILLING CODE 4910-22-M